DEPARTMENT OF VETERANS AFFAIRS

Veterans' Advisory Committee on Education, Notice of Meeting

The Department of Veterans Affairs (VA) gives notice under the Federal Advisory Committee Act, 5 U.S.C. App. 2, that the Veterans' Advisory Committee on Education will meet on August 13-14, 2013, in the First Floor Conference Room at 1307 New York Avenue NW., Washington, DC, from 8 a.m. to 4:30 p.m. on both days. The meeting is open to the public.

The purpose of the Committee is to advise the Secretary of Veterans Affairs on the administration of education and training programs for Veterans, Servicepersons, Reservists, and dependents of Veterans under Chapters 30, 32, 33, 35, and 36 of title 38, and Chapter 1606 of title 10, United States Code.

On August 13, the Committee will receive opening remarks and an overview by the Committee's Chair; updates on the Post 9/11 GI Bill; VA's implementation of Executive Order 13607 and Public Law 112, 249; VA's partnership with Student Veterans of America and the National Student Clearing House; and the redesign of the Transition Assistance Program. On August 14, the Committee will review and summarize issues raised throughout the meeting and discuss Committee work groups and next steps. Oral statements will be heard at 3 p.m.

The public may submit written statements for the Committee's review to Barrett Y. Bogue Designated Federal Officer, Department of Veterans Affairs, Veterans Benefits Administration (225D), 810 Vermont Avenue NW., Washington, DC 20420 or email at barrett.bogue@va.gov. Any member of the public wishing to attend the meeting or seeking additional information should contact Mr. Bogue at (202) 461-9800.

Dated: August 6, 2013.
By Direction of the Secretary.
Vivian Drake,
Committee Management Officer.

[FR Doc. 2013-19343 Filed 8-8-13; 8:45 am]

BILLING CODE 8320-01-P